DEPARTMENT OF LABOR

Employment and Training Administration

[TA-W-71,276]

Health Net, Inc., Information Technology Group, Shelton, CT; Notice of Termination of Investigation

Pursuant to Section 223 of the Trade Act of 1974, as amended, an investigation was initiated in response to a petition filed on June 18, 2009 on behalf of workers of Health Net, Inc., Information Technology Group, Shelton, Connecticut.

The petitioning group of workers is covered by an active certification, (TA-W-70,166J) which expires on August 25, 2011. Consequently, further investigation in this case would serve no purpose, and the investigation has been terminated.

Signed at Washington, DC, this 25th day of August 2009.
Elliott S. Kushner,
Certifying Officer, Division of Trade Adjustment Assistance.

[FR Doc. E9-29172 Filed 12-7-09; 8:45 am]

BILLING CODE 4510-FN-P